Title 3—

The President

Proclamation 8402 of August 25, 2009

Women's Equality Day, 2009

By the President of the United States of America

A Proclamation

Today, our country renews its commitment to freedom and justice for all our citizens. As we prepare to celebrate this women's day of equality, we reflect on the sacrifices once made to allow women and girls the basic rights and choices we freely exercise today. The future we leave to our daughters and granddaughters will be determined by our willingness to build on the achievements of our past and move forward as one people and one Nation. The fight for women's equality is not a woman's agenda, but an American agenda.

We honor the resilience, accomplishments, and history of all women in the United States. We celebrate the courageous women who fought to uphold a fundamental principle within our Constitution—the right to vote—and in so doing, protected the cornerstone of our vibrant democracy. These visionaries of the Seneca Falls Convention of 1848 sought to ensure that our country lived up to its founding ideals. Although only one, Charlotte Woodward, at the age of 81, had the opportunity to exercise her newfound right, the struggle reminds us that no righteous cause is a lost one. We also commemorate women like Frances Ellen Watkins Harper, a poet and lecturer who formed the National Association of Colored Women; Antonia Pantoja, a tireless advocate of education equality within the Latino community; Sarah Winnemucca, a voice for peace within the Native American community; and Patsy Mink, author of Title IX and the first woman of color and Asian American woman elected to the United States Congress. These women's talents, and the contributions of countless others, built upon the framework of 1848 and forged paths for future generations.

Our Nation has come a long way since that ground-breaking convention in New York. Women have occupied some of the most significant positions in government. They have delivered justice from the bench of our highest court, fought for our country in foreign lands, discovered cures to diseases, and joined the ranks of the greatest business leaders of our time. Female college graduates now outnumber their male counterparts. Women have sought equality through government, demonstrated by the signing of the Lilly Ledbetter Fair Pay Act of 2009, and the establishment of the White House Council on Women and Girls. They have sought equality through advocacy, exemplified by the efforts of thousands of women's organizations. America has made significant progress toward becoming the fair and just society the suffragists once envisioned.

Yet, today, our work remains unfinished. Far too many adult women remain mired in poverty. Women are still subject to pervasive discrimination at school and harassing conduct in the workplace. Women make, on average, only 78 cents for every dollar paid to men. Underrepresented in many facets of our economic and public life, from government to boardrooms to the sciences, women have yet to eradicate all barriers to professional development.

We stand at a moment of unparalleled change and a time for reflection and hope. We cannot allow the vibrant energy and passionate commitment of our trailblazing women to fade, and we can never forget the responsibility we bear to the ideals of liberty and equality for all. Each generation of successful women serves as a catalyst to empower, enlighten, and educate the next generation of girls and boys, and we must devote ourselves to promoting this catalyst for change now and in the future.

On this Women's Equality Day, we resolve to continue the important work of our Nation's foremothers and their successors, and turn their vision of a more equal America into our reality.

NOW, THEREFORE, I, BARACK OBAMA, President of the United States of America, by virtue of the authority vested in me by the Constitution and laws of the United States, do hereby proclaim August 26, 2009, as Women's Equality Day. I call upon the people of the United States to celebrate the achievements of women and recommit themselves to the goal of true gender equality in this country.

IN WITNESS WHEREOF, I have hereunto set my hand this twenty-fifth day of August, in the year of our Lord two thousand nine, and of the Independence of the United States of America the two hundred and thirty-fourth.

[FR Doc. E9-21015

Filed 8-27-09; 11:15 am]

Billing code 3195-W9-P